DEPARTMENT OF LABOR

Employment and Training Administration

[TA-W-38,470]

Plum Creek Timber, Pablo, MT; Notice of Revised Determination on Reconsideration

On June 25, 2001, the Department issued a Notice of Affirmative Determination Regarding Application for Reconsideration applicable to workers and former workers of the subject firm. The notice was published in the Federal Register on July 11, 2001 (66 FR 36332).

The initial petition investigation for workers at Plum Creek Timber Company, Pablo, Montana, TA-W-38,470, was denied based on the finding that customers of the subject firm did not increase import purchases of softwood dimension lumber.

The company's request for reconsideration stated the articles produced at the plant were one-inch boards, not softwood dimension lumber.

On reconsideration, the Department conducted another survey of Plum Creek Timber's customers regarding their purchases in 1998, 1999 and January through September 2000, of one-inch (1″) boards and like or directly competitive products. The survey revealed that customers increased import purchases of one-inch boards while reducing purchases from Plum Creek Timber.

Conclusion

After careful review of the additional facts obtained on reconsideration, I conclude that increased imports of articles like or directly competitive with increased imports of articles like or directly competitive with one-inch boards, contributed importantly to the decline in sales or production and to the total or partial separation of workers of Plum Creek Timber Company, Pablo, Montana. In accordance with the provisions of the Act, I make the following revised determination:

All workers of Plum Creek Timber Company, Pablo, Montana, who became totally or partially separated from employment on or after December 4, 1999, through two years from the date of this issuance, are eligible to apply for adjustment assistance under Section 223 of the Trade Act of 1974.

Signed in Washington, DC this 26th day of September 2001.
Edward A. Tomchick,
Director, Division of Trade Adjustment Assistance.

[FR Doc. 01-26362 Filed 10-18-01; 8:45 am]

BILLING CODE 4510-30-M